DEPARTMENT OF JUSTICE

Antitrust Division

Notice Pursuant to the National Cooperative Research and Production Act of 1993—Cooperative Research Group on Integrated Investigations of Faulting in Carbonate Strata

Notice is hereby given that, on February 25, 2010, pursuant to Section 6(a) of the National Cooperative Research and Production Act of 1993, 15 U.S.C. 4301 et seq. (“the Act”), Southwest Research Institute (“SwRI”): Cooperative Research Group on Integrated Investigations of Faulting in Carbonate Strata has filed written notifications simultaneously with the Attorney General and the Federal Trade Commission disclosing changes in its membership, nature and objective. The notifications were filed for the purpose of extending the Act's provisions limiting the recovery of antitrust plaintiffs to actual damages under specified circumstances. Specifically, ConocoPhillips Co., Houston, TX; and Shell International Exploration & Production, Inc., Houston, TX have withdrawn as parties to this venture. The changes in its nature and objectives are: The period of performance has been extended to December 31, 2011.

No other changes have been made in either the membership or planned activity of the group research project. Membership in this group research project remains open, and the participants intend to file additional written notifications disclosing all changes in membership.

On September 10, 2007, Cooperative Research Group on Integrated Investigation of Faulting in Carbonate Strata filed its original notification pursuant to Section 6(a) of the Act. The Department of Justice published a notice in the Federal Register pursuant to Section 6(b) of the Act on November 7, 2007 (72 FR 62870).

Patricia A. Prink,
Deputy Director of Operations, Antitrust Division.

[FR Doc. 2010-7004 Filed 3-30-10; 8:45 am]

BILLING CODE 4410-11-M